ENVIRONMENTAL PROTECTION AGENCY

[FRL-12553-01-R9]

Clean Air Act Operating Permit Program; Order on Petition for Objection to State Operating Permit for Torrance Refining Company, LLC

AGENCY: Environmental Protection Agency (EPA).

ACTION: Notice of final order on petition.

SUMMARY: The Environmental Protection Agency (EPA) Acting Administrator signed an order dated January 7, 2025, granting in part and denying in part a petition dated July 10, 2024, from Del Amo Action Committee. The petition requested that the EPA object to a Clean Air Act (CAA) title V operating permit renewal issued by the South Coast Air Quality Management District (SCAQMD) to Torrance Refining Company, LLC, located in Los Angeles County, California.

FOR FURTHER INFORMATION CONTACT: Nidia K. Trejo, EPA Region 9, (415) 972-3968, trejo.nidia@epa.gov. The final order and petition are available electronically at: https://www.epa.gov/title-v-operating-permits/title-v-petition-database.

SUPPLEMENTARY INFORMATION:

The EPA received a petition from Del Amo Action Committee dated July 10, 2024, requesting that the EPA object to the issuance of operating permit renewal for Facility ID 181667, issued by SCAQMD to Torrance Refining Company, LLC, in Los Angeles County, California. On January 7, 2025, the EPA Acting Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than August 19, 2025.

Dated: June 11, 2025.
Matthew Lakin,
Director, Air and Radiation Division, Region IX.

[FR Doc. 2025-11275 Filed 6-18-25; 8:45 am]

BILLING CODE 6560-50-P